FEDERAL RESERVE SYSTEM

Change in Bank Control Notices; Acquisition of Shares of Bank or Bank Holding Companies

The notificants listed below have applied under the Change in Bank Control Act (12 U.S.C. 19817 (j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors/ Interested persons may express their views in writing to the Reserve bank indicated for that notice or to the offices of the Board of Governors. Comments must be received not later than December 8, 2000.

A. Federal Reserve Bank of Cleveland (Paul Kaboth, Banking Supervision) 1455 East Sixth Street, Cleveland, Ohio 44101-2566:

1. Malcom Monroe Jett, Christine Rojas Jett, Elizabeth Devlin Jett, Ellen Louise Jett-Mills, David Devlin Jett, all of Lexington, Kentucky; to acquire voting shares of Bluegrass Bancshares, Inc., Lexington, Kentucky, and thereby indirectly acquire voting shares of The Bank of the Bluegrass & Trust Company, Lexington, Kentucky.

B. Federal Reserve Bank of Chicago (Phillip Jackson, Applications Officer) 230 South LaSalle Street, Chicago, Illinois 60690-1414:

1. David Gene and Susan Holden McCurry, Coralville, Iowa; to acquire additional voting shares of Washington Bancorp., Washington, Iowa, and thereby indirectly acquire additional voting shares of Rubio Savings Bank of Brighton, Brighton, Iowa.

C. Federal Reserve Bank of Minneapolis (JoAnne F. Lewellen, Assistant Vice President) 90 Hennepin Avenue, Minneapolis, Minnesota 55480-0291:

1. David Bradley Erickson, Lakeland Shores, Minnesota; to acquire additional voting shares of Freedom Bancorporation, Inc., Hudson, Wisconsin, and thereby indirectly acquire additional voting shares of Lake Area Bank, Lindstrom, Minnesota.

Board of Governors of the Federal Reserve System, November 17, 2000.
Robert deV. Frierson
Associate Secretary of the Board.

[FR Doc. 00-29930 Filed 11-22-00; 8:45 am]

BILLING CODE 6210-01-S